SUSQUEHANNA RIVER BASIN COMMISSION

Commission Meeting

AGENCY: Susquehanna River Basin Commission.

ACTION: Notice.

SUMMARY: The Susquehanna River Basin Commission will hold its regular business meeting on September 19, 2013, in Binghamton, New York. Details concerning the matters to be addressed at the business meeting are contained in the Supplementary Information section of this notice.

DATES: September 19, 2013, at 9:00 a.m.

ADDRESSES: Binghamton State Office Building, Warren Anderson Community Room (18th Floor), 44 Hawley Street, Binghamton, NY 13901.

FURTHER INFORMATION CONTACT: Richard A. Cairo, General Counsel, telephone: (717) 238-0423, ext. 1306; fax: (717) 238-2436.

Opportunity To Appear and Comment

Interested parties are invited to attend the business meeting and encouraged to review the Commission's Public Meeting Rules of Conduct, which are posted on the Commission's Web site, www.srbc.net. As identified in the public hearing notice referenced below, written comments on the project applications that were the subject of the public hearing, and are listed for action at the business meeting, are subject to a comment deadline of August 26, 2013. Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before September 13, 2013, to be considered.

SUPPLEMENTARY INFORMATION: The business meeting will include actions or presentations on the following items: (1) Recognition of retiring Executive Director Paul Swartz; (2) oath of office for incoming Executive Director Andrew Dehoff; (3) presentation on the Whitney Point Adaptive Management Plan; (4) delegation of regulatory authority to the executive director; (5) ratification/approval of contracts and grants; and (6) project applications.

The project applications listed for Commission action are those that were the subject of a public hearing conducted by the Commission on August 15, 2013, and identified in the notice for such hearing, which was published in 78 FR 43961, July 22, 2013. Please note that the following additional project has been scheduled for rescission action:

• Project Sponsor and Facility: Clark Trucking, LLC (Muncy Creek), Muncy Creek Township, Lycoming County, Pa. (Docket No. 20111208).

Authority: Pub. L. 91-575, 84 Stat. 1509 et seq., 18 CFR Parts 806, 807, and 808.

Dated: August 16, 2013.
Paul O. Swartz,
Executive Director.

[FR Doc. 2013-20586 Filed 8-22-13; 8:45 am]

BILLING CODE 7040-01-P